DEPARTMENT OF TRANSPORTATION

Coast Guard

33 CFR Part 117

[CGD01-01-076]

Drawbridge Operation Regulations: Annisquam River, Blynman Canal, MA

AGENCY: Coast Guard, DOT.

ACTION: Notice of temporary deviation from regulations.

SUMMARY: The Commander, First Coast Guard District, has issued a temporary deviation from the drawbridge operation regulations for the SR 127 Bridge, mile 0.0, across the Annisquam River, Blynman Canal, in Gloucester, Massachusetts. This deviation from the regulations allows the bridge owner to keep the bridge in the closed position from June 18, 2001 through June 27, 2001, at various times to facilitate the emergency repair of the bridge power supply cable.

DATES: This deviation is effective from June 18, 2001 through June 27, 2001.

FOR FURTHER INFORMATION CONTACT: John McDonald, Project Officer, First Coast Guard District, at (617) 223-8364.

SUPPLEMENTARY INFORMATION: The SR 127 Bridge, at mile 0.0, across the Annisquam River Blynman Canal in Gloucester, Massachusetts, has a vertical clearance of 7 feet at mean high water, and 16 feet at mean low water in the closed position.

The existing drawbridge operation regulations require the draw to open on signal at all times.

The bridge owner, Massachusetts Highway Department (MHD), requested a temporary deviation from the drawbridge operating regulations to facilitate the emergency repair of the bridge power supply cable.

The contractor must work five four-hour days from June 18, 2001 through June 22, 2001, during daylight hours, at slack tide in order to excavate the underwater trench for the new power supply cable. The working hours will vary each day depending upon the time period that slack tide occurs. During these four-hour work periods each day the bridge will not open for vessel traffic.

The bridge will operate according to its normal schedule, opening on demand, from June 23, 2001 through 7 a.m. June 25, 2001. From 7 a.m. June 25, 2001 through midnight on June 27, 2001 the bridge will not open for vessel traffic in order to change over to the new cable and connect all the power supply wires at the bridge.

This deviation to the operating regulations allows the owner of the SR 127 Bridge to keep the bridge in the closed position four-hours a day during daylight hours at slack tide from June 18, 2001 through June 22, 2001 and from 7 a.m. on June 25, 2001 through midnight on June 27, 2001.

In accordance with 33 CFR 117.35(c), this work will be performed with all due speed in order to return the bridge to normal operation as soon as possible. This deviation from the operating regulations is authorized under 33 CFR 117.35.

Dated: May 24, 2001.
G.N. Naccara,
Rear Admiral, U.S. Coast Guard, Commander, First Coast Guard District.

[FR Doc. 01-14497 Filed 6-7-01; 8:45 am]

BILLING CODE 4910-15-U